DEPARTMENT OF HOUSING AND URBAN DEVELOPMENT

[Docket No. FR-7018-N-02]

60-Day Notice of Proposed Information Collection: Standards for Success Reporting

AGENCY: Office of the Deputy Secretary, HUD.

ACTION: Notice.

SUMMARY: The Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: July 2, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone number 202-402-3400 (this is not a toll-free number) or email at Colette.Pollard@hud.gov. Copies of the proposed forms and other information are available by contacting Ms. Pollard. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or by telephone at 202-402-3400. This is not a toll-free number. Persons with hearing or speech impairments may access this number through TTY by calling the toll-free Federal Relay Service at (800) 877-8339. Requests for copies of the proposed forms should be submitted to Ms. Pollard.

SUPPLEMENTARY INFORMATION: This notice informs the public that HUD is seeking approval from OMB for the information collection described in Section A.

A. Overview of Information Collection

Title of Information Collection: Standards for Success Reporting.

OMB Approval Number: 2501-0034.

Type of Request: Regular.

Type of Information Collection: Renewal.

Form Numbers: HUD-PRL.

Description of the need for the information and proposed use:

This request is for the continued clearance of data collection and reporting requirements to enable the U.S. Department of Housing and Urban Development (HUD) Office of Business Transformation (OBT) to better assess the effectiveness of discretionary-funded programs included in this information collection request (ICR). The discretionary-funded programs included in this ICR are the Multifamily Housing Service Coordinator Grant Program, the Multifamily Housing Budget-based Service Coordinator Program, and the Resident Opportunity and Self Sufficiency Service Coordinator Grant Program (ROSS).

This proposed collection, titled Standards for Success, has three key tenets which vastly improve data collection and reporting for participating programs. First is the standardization of data collection and reporting requirements across programs which increases data comparability and utilization. Second is the ability to report on measurable outcomes and aligning them with higher-level agency objectives. And third is the collection of record-level data, instead of aggregate data. Collecting de-identified data at the level of the service recipient allows for more meaningful analysis, improved management, and the ability to demonstrate the progress and achievements of the funding recipients and the programs. Standards for Success accepts data submission by direct data input through the HUD-funded GrantSolutions online data collection and reporting tool (OLDC) and by data file upload, accommodating file formats in Microsoft Excel or Extensible Markup Language (XML).

Currently across HUD, there are several reporting models in place for its discretionary programs. The reporting models provide information on a wide variety of outputs and outcomes and are based on unique data definitions and outcome measures in program-specific performance and progress reports. In Federal Fiscal Year 2013, nine program offices at HUD used six systems and 15 reporting tools to collect over 700 data elements in support of varied metrics to assess the performance of their funding recipients. The proposed data collection and reporting requirements described in this notice are designed to provide HUD programs a tested alternative to their existing disparate reporting methodologies, forms, systems, and requirements.

The lack of standardized data collection and reporting requirements imposes an increased burden on funding recipients with multiple HUD funding streams. The need for a comprehensive standardized reporting approach is underscored by reviews conducted by external oversight agencies, including the HUD Office of Inspector General (OIG) and the Government Accountability Office (GAO). These oversight agencies have questioned the soundness and comparability of data reported by HUD prior to Standards for Success. To address these issues, HUD is using its statutory and regulatory authority to improve and strengthen performance reporting for its discretionary programs, ultimately working towards a single comprehensive reporting approach.

The Secretary's statutory and regulatory authority to administer housing and urban development programs include provisions allowing for the requirement of performance reporting from funding recipients. This legal authority is codified at 42 U.S.C. 3535(r). The individual privacy of service recipients is of the highest priority. The reporting repository established at HUD to receive data submission from funding recipients will not include any personally identifiable information (PII). Additionally, if the data from a funding recipient has 25 or fewer individuals served during a fiscal year as reported in the record-level reports, then the results for the demographic data elements for the 25 or fewer individuals will also be redacted or removed from the public-use data file and any publicly available analytical products in order to ensure the inability to identify any individual.

Eligible entities receiving funding by HUD are expected to implement the proposed recordkeeping and reporting requirements with available HUD funds. It is important to note that affected HUD funding recipients only submit a subset of the universe of data elements presented. The participating HUD program offices determine the specific data collection and reporting requirements, which considers the type and level of service provided by the respective HUD program.

The reporting requirements in this proposal better organize the data that participating programs collected in the past, standardize outcomes and performance measures, and allow program offices at HUD to select which data elements and performance indicators are relevant for their respective programs. Documents detailing the data elements, performance indicators, and programs are available for review by request from Colette Pollard (Colette.Pollard@hud.gov). All information reported to HUD will be submitted electronically. Funding recipients may use existing management information systems provided those systems collect all of the required data elements and can be exported for submission to HUD. Funding recipients that sub-award funds to other organizations will need to collect the required information from their sub-recipients.

Information collected and reported will be used by funding recipients and HUD for the following purposes:

• To provide program and performance information to recipients, general public, Congress, and other stakeholders;

• To continuously improve the quality, effectiveness, and efficiency of discretionary-funded programs;

• To provide management information for use by HUD in program administration and oversight, including the scoring of applications and the monitoring of funding-recipient participation, services, and outcomes; and

• To better measure and analyze performance information to identify successful practices to be replicated and prevent or correct problematic practices and improve outcomes in compliance with the Government Performance and Results Act (GPRA) and the GPRA Modernization Act.

The data collection and reporting requirements may expand to other HUD programs. Program implementation will be determined by the program. HUD will provide technical assistance to funding recipients throughout the implementation.

Respondents (i.e., affected public): Organizations receiving HUD funding as listed on page 2.

Annual Burden Estimate for the Requested Reporting Approach
HUD program | Number of respondents (funding recipients) | Submission frequency | Hourly rate ¹ | Average number of minutes (per record) | Estimated annual burden hours | Estimated annual burden dollars
Multifamily Housing Service Coordinator Grant Program | 1,665 | 1 | $18.75 | 20 | 57,753 | $1,082,869
Multifamily Housing Budget-based Service Coordinator Program | 2,835 | 1 | $18.75 | 20 | 98,336 | 1,843,800
Resident Opportunities and Self-Sufficiency Service Coordinator Grant Program | 353 | 1 | $18.75 | 20 | 12,244 | 229,581
Total | ² 4,853 | 1 | $18.75 | 20 | 168,333 | 3,156,250
¹ The hourly rate of $18.75 is the average wage for office and administrative support occupations as reported in the May 2018 Occupational Employment and Wages produced by the U.S. Department of Labor, Bureau of Labor Statistics.
² There are an estimated 505,000 individuals to be served by the 4,853 funding recipients.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. Chapter 35.

Dated: April 23, 2019.
Christopher Walsh,
Presidential Management Fellows, Office of Business Transformation.

[FR Doc. 2019-09122 Filed 5-2-19; 8:45 am]

BILLING CODE 4210-67-P